DEPARTMENT OF COMMERCE

National Oceanic and Atmospheric Administration

[File No. 15614]

RIN 0648-XA087

Endangered Species

AGENCY: National Marine Fisheries Service (NMFS), National Oceanic and Atmospheric Administration (NOAA), Commerce.

ACTION: Notice; receipt of application.

SUMMARY: Notice is hereby given that Tom Savoy, Connecticut Department of Environmental Protection, Marine Fisheries Division, P.O. Box 719, Old Lyme, CT 06371, has applied in due form for a permit to take shortnose sturgeon for purposes of scientific research.

DATES: Written, telefaxed, or e-mail comments must be received on or before January 18, 2011.

ADDRESSES: The application and related documents are available for review by selecting “Records Open for Public Comment” from the Features box on the Applications and Permits for Protected Species (APPS) home page, https://apps.nmfs.noaa.gov, and then selecting File No. 15614 from the list of available applications.

These documents are also available upon written request or by appointment in the following offices: Permits, Conservation and Education Division, Office of Protected Resources, NMFS, 1315 East-West Highway, Room 13705, Silver Spring, MD 20910; phone (301) 713-2289; fax (301) 713-0376; and

Northeast Region, NMFS, 55 Great Republic Drive, Gloucester, MA 01930; phone (978) 281-9328; fax (978) 281-9394.

Written comments on this application should be submitted to the Chief, Permits, Conservation and Education Division, at the address listed above. Comments may also be submitted by facsimile to (301) 713-0376, or by e-mail to NMFS.Pr1Comments@noaa.gov. Please include the File No. in the subject line of the e-mail comment.

Those individuals requesting a public hearing should submit a written request to the Chief, Permits, Conservation and Education Division at the address listed above. The request should set forth the specific reasons why a hearing on this application would be appropriate.

FOR FURTHER INFORMATION CONTACT: Colette Cairns or Malcolm Mohead, (301) 713-2289.

SUPPLEMENTARY INFORMATION: The subject permit is requested under the authority of the Endangered Species Act of 1973, as amended (ESA; 16 U.S.C. 1531 et seq.) and the regulations governing the taking, importing, and exporting of endangered and threatened species (50 CFR 222-226).

Mr. Savoy is seeking a permit enabling the Connecticut Department of Environmental Protection to conduct scientific research and monitor the status of shortnose sturgeon in Connecticut waters. Annually, 450 adult and juvenile fish would be captured via gill net and trawl, measured; weighed; PIT tagged; have a pectoral fin ray removed; and released in the Connecticut River between river kilometers 0 and 140. A subset of 100 would also be gastric lavaged, and a subset of 25 would also have a sonic/radio tag attached. Additionally, 50 fish annually would be captured via gill net and trawl; measured; weighed; PIT tagged; fin ray clipped; and released in either the Thames or Housatonic Rivers. Mr. Savoy is seeking authorization for these activities for five years from the date of permit issuance.

Dated: December 13, 2010.
Tammy C. Adams,
Acting Chief, Permits, Conservation and Education Division, Office of Protected Resources, National Marine Fisheries Service.

[FR Doc. 2010-31748 Filed 12-16-10; 8:45 am]

BILLING CODE 3510-22-P